DEPARTMENT OF TRANSPORTATION

National Highway Traffic Safety Administration

49 CFR Part 575

[Docket No. NHTSA 2010-0025]

RIN 2127-AK51

New Car Assessment Program (NCAP); Safety Labeling

AGENCY: National Highway Traffic Safety Administration (NHTSA), Department of Transportation (DOT).

ACTION: Correcting amendments.

SUMMARY: This document contains corrections to a final rule (49 CFR 575.302), which was published in the Federal Register of Friday, July 29, 2011 (76 FR 45453). The final rule amended NHTSA's regulation on vehicle labeling of safety rating information to reflect the enhanced NCAP ratings program.

DATES: Effective Date: January 3, 2012.

FOR FURTHER INFORMATION CONTACT: For non-legal issues, you may contact Ms. Jennifer N. Dang, Office of Crashworthiness Standards (Telephone: (202) 366-1740) (Fax: (202) 493-2739). For legal issues, you may call Mr. Edward Glancy, Office of the Chief Counsel (Telephone: (202) 366-2992) (Fax: (202) 366-3820). You may send mail to both of these officials at the National Highway Traffic Safety Administration, 1200 New Jersey Avenue SE., West Building, Washington, DC 20590-0001.

SUPPLEMENTARY INFORMATION:

Background

NHTSA published in the Federal Register of July 29, 2011 (76 FR 45453), a final rule revising the agency's regulation on vehicle labeling of safety rating information.

Need for Correction

As published, the final regulation inadvertently contained several errors.

In the first sentence of section 575.302(b), pickup trucks were incorrectly listed as an example of automobiles that are required by the Automobile Information Disclosure Act (AIDA) to have Monroney labels (price sticker labels). However, AIDA does not require Monroney labels for pickup trucks.¹ That sentence also included a minor typographical error (the first use of the word “are” was extraneous).

¹ NHTSA provided a discussion of this issue in the preamble to a final rule published in the Federal Register (71 FR 53572) on September 12, 2006. See also chapter VIII, Automobile Information Disclosure, Monograph, Consumer Protection Branch, Department of Justice, available at http://www.justice.gov/civil/docs_forms/CPB_Monograph.pdf.

In section 575.302(e)(4)(iii), the regulatory text specifying certain language for the label incorrectly indicated that the word “only” is to be in italics, when it should have indicated that the word is to be capitalized. We note that the sample label shown in Figure 2 to section 575.302 correctly shows the word capitalized.

Also, separate from the July 2011 final rule, we identified certain errors in the authority citation, which we are correcting.

List of Subjects in 49 CFR Part 575

Consumer protection, Motor vehicle safety, Reporting and recordkeeping requirements, Tires.

Accordingly, 49 CFR part 575 is corrected by making the following correcting amendments:

PART 575—CONSUMER INFORMATION

1. The authority citation for part 575 is revised to read as follows:

Authority: 49 U.S.C. 32302, 32304A, 30111, 30115, 30117, 30123, 30166, 30168, and 32908, Pub. L. 104-414, 114 Stat. 1800, Pub. L. 109-59, 119 Stat. 1144, Pub. L. 110-140, 121 Stat. 1492, 15 U.S.C. 1232(g); delegation of authority at 49 CFR 1.50.

2. In § 575.302, revise paragraphs (b) and (e)(4)(iii) to read as follows:

§ 575.302 Vehicle labeling of safety rating information (compliance required for model year 2012 and later vehicles manufactured on or after January 31, 2012).

* * * * *

(b) Application. This section applies to automobiles with a GVWR of 10,000 pounds or less, manufactured on or after January 31, 2012 that have vehicle identification numbers that identify the vehicles to be model year 2012 or later and that are required by the Automobile Information Disclosure Act, 15 U.S.C. 1231-1233, to have price sticker labels (Monroney labels), (e.g., passenger vehicles, station wagons, passenger vans, and sport utility vehicles). Model Year 2012 or later vehicles manufactured prior to January 31, 2012, at the manufacturer's option, may be labeled according to the provisions of this § 575.302 provided the ratings placed on the safety rating label are derived from vehicle testing conducted by the National Highway Traffic Safety Administration under the enhanced NCAP testing and rating program.

* * * * *

(e) * * *

(4) * * *

(iii) The words “Based on the combined ratings of frontal, side and rollover” followed by the statement “Should ONLY be compared to other vehicles of similar size and weight” (on the following line) must be placed at the bottom of the overall vehicle score area and left justified.

* * * * *

Issued On: November 23, 2011.
Christopher J. Bonanti,
Associate Administrator for Rulemaking.

[FR Doc. 2011-30910 Filed 11-30-11; 8:45 am]

BILLING CODE 4910-59-P